DEPARTMENT OF AGRICULTURE

Agricultural Marketing Service

[Docket Number FV-05-301]

United States Standards for Grades of Strawberries

AGENCY: Agricultural Marketing Service, USDA.

ACTION: Notice; request for public comment.

SUMMARY: The Agricultural Marketing Service (AMS), of the Department of Agriculture, is soliciting comments on a proposal to revise the United States Standards for Grades of Strawberries. AMS has received a petition from the California Strawberry Commission (CSC), requesting that the current standards be modified to allow percentages be determined on the basis of count and not volume. Additionally, AMS is seeking comments regarding any other revisions that may be necessary to better serve the industry.

DATES: Comments must be received by May 10, 2005.

ADDRESSES: Interested persons are invited to submit written comments to the Standardization Section, Fresh Products Branch, Fruit and Vegetable Programs, Agricultural Marketing Service, U.S. Department of Agriculture, 1400 Independence Ave. SW., Room 1661 South Building, Stop 0240, Washington, DC 20250-0240; Fax (202) 720-8871, E-mail FPB.DocketClerk@usda.gov. Comments should make reference to the dates and page number of this issue of the Federal Register and will be made available for public inspection in the above office during regular business hours. The United States Standards for Grades of Strawberries are available either through the address cited above or by accessing the Fresh Products Branch Web site at http://www.ams.usda.gov/standards/stanfrfv.htm.

FOR FURTHER INFORMATION CONTACT: David L. Priester, at the above address or call (202) 720-2185, E-mail David.Priester@usda.gov.

SUPPLEMENTARY INFORMATION: Section 203(c) of the Agricultural Marketing Act of 1946 (7 U.S.C. 1621-1627), as amended, directs and authorizes the Secretary of Agriculture “to develop and improve standards of quality, condition, quantity, grade and packaging and recommend and demonstrate such standards in order to encourage uniformity and consistency in commercial practices * * *.” AMS is committed to carrying out this authority in a manner that facilitates the marketing of agricultural commodities and makes copies of official standards available upon request. The United States Standards for Grades of Fruits and Vegetables not connected with Federal Marketing Orders or U.S. Import Requirements, no longer appear in the Code of Federal Regulations, but are maintained by USDA/AMS/Fruit and Vegetable Programs.

AMS is proposing to revise the voluntary United States Standards for Grades of Strawberries using procedures that appear in Part 36 Title 7 of the Code of Federal Regulations (7 CFR Part 36). These standards were last revised in 1965.

Background

AMS received a petition from the CSC requesting a revision to the United States Standards for Grades of Strawberries. The standards are established under the authority of the Agricultural Marketing Act of 1946 (7 U.S.C. 1621-1627). The petitioner represents more than 700 strawberry growers, shippers, and processors.

The petitioner is requesting that USDA revise the standards to allow that percentages be determined on the basis of count and not volume. Currently the standards state that the percentages of defects will be determined on the basis of volume. The volume is determined by counting the berries in a sample, and then dividing the total number of berries into 100 percent. The resulting number will be the percentage by volume of the average size berry in the sample. For example, in a sample that has 25 berries the average size berry will be equal to 4 percent with smaller berries representing less and larger berries representing more of the percentage by volume in the sample. Industry believes determining percentages by count will simplify tolerance determination.

Prior to undertaking detailed work to develop a proposed revision to the standard, AMS is soliciting comments on the petition submitted to revise the United States Standards for Grades of Strawberries.

This notice provides for a 60-day comment period for interested parties to comment on changes to the standards. Should AMS conclude that revisions are needed, the Agency will develop a proposed revised standard that will be published in the Federal Register with a request for comments in accordance with 7 CFR Part 36.

Authority: 7 U.S.C. 1621-1627.

Dated: March 7, 2005.
Kenneth C. Clayton,
Acting Administrator.

[FR Doc. 05-4812 Filed 3-10-05; 8:45 am]

BILLING CODE 3410-02-P